ENVIRONMENTAL PROTECTION AGENCY

40 CFR Parts 60 and 61

[EPA-R09-OAR-2011-0981; FRL-9806-3]

Delegation of New Source Performance Standards and National Emission Standards for Hazardous Air Pollutants for the States of Arizona, California, and Nevada

AGENCY: Environmental Protection Agency (EPA).

ACTION: Direct final rule.

SUMMARY: EPA is finalizing updates to the Code of Federal Regulations delegation tables to reflect the current delegation status of New Source Performance Standards and National Emission Standards for Hazardous Air Pollutants in Arizona, California, and Nevada.

DATES: This rule is effective on July 1, 2013 without further notice, unless EPA receives adverse comments by May 30, 2013. If we receive such comments, we will publish a timely withdrawal in the Federal Register to notify the public that this direct final rule will not take effect.

ADDRESSES: Submit comments, identified by docket number EPA-R09-OAR-2011-0981, by one of the following methods:

1. Federal eRulemaking Portal: www.regulations.gov. Follow the on-line instructions.

2. Email: steckel.andrew@epa.gov.

3. Mail or deliver: Andrew Steckel (Air-4), U.S. Environmental Protection Agency Region IX, 75 Hawthorne Street, San Francisco, CA 94105-3901.

Instructions: All comments will be included in the public docket without change and may be made available online at www.regulations.gov, including any personal information provided, unless the comment includes Confidential Business Information (CBI) or other information whose disclosure is restricted by statute. Information that you consider CBI or otherwise protected should be clearly identified as such and should not be submitted through www.regulations.gov or email. www.regulations.gov is an “anonymous access” system, and EPA will not know your identity or contact information unless you provide it in the body of your comment. If you send email directly to EPA, your email address will be automatically captured and included as part of the public comment. If EPA cannot read your comment due to technical difficulties and cannot contact you for clarification, EPA may not be able to consider your comment. Electronic files should avoid the use of special characters, any form of encryption, and be free of any defects or viruses.

Docket: The index to the docket for this action is available electronically at www.regulations.gov and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Adrianne Borgia at (415) 972-3576, borgia.adrianne@epa.gov.

SUPPLEMENTARY INFORMATION: Throughout this document, “we”, “us,” and “our” refer to EPA.

Table of Contents

I. Background

A. What is the purpose of this document?

B. Who is authorized to delegate these authorities?

C. What does delegation accomplish?

D. What authorities are not delegated by EPA?

E. Does EPA keep some authority?

II. EPA Action

III. Statutory and Executive Order Reviews

I. Background

A. What is the purpose of this document?

Through this document, EPA is accomplishing the following objectives:

(1) Update the delegations tables in the Code of Federal Regulations, Title 40 (40 CFR), Parts 60 and 61, to provide an accurate listing of the delegated New Source Performance Standards (NSPS) and National Emission Standards for Hazardous Air Pollutants (NESHAP); and

(2) Clarify those authorities that EPA retains and are not granted to state or local agencies as part of NSPS or NESHAP delegation.

Update of Tables in the CFR

Today's action will update the delegation tables in 40 CFR Parts 60 and 61, to allow easier access by the public to the status of delegations in various state or local jurisdictions.

The updated delegation tables will include the delegations approved in response to recent requests, as well as those previously granted. The tables are shown at the end of this document.

Recent requests for delegation that will be incorporated into the updated 40 CFR Parts 60 and 61 tables are identified below. Each individual submittal identifies the specific NSPS and NESHAP for which delegation was requested. The requests have already been approved by letter and simply need to be included in the CFR tables.

Agency | Date of request | Date of approval
Maricopa County Air Quality Department | March 11, 2009; March 5, 2010; April 5, 2010; October 7, 2010; and November 16, 2011 | May 27, 2009; June 23, 2010; November 4, 2010; and January 10, 2012.
Antelope Valley Air Quality Management District | April 22, 2011 | June 7, 2011.
Mojave Desert Air Quality Management District | May 10, 2011 | June 14, 2011.
San Diego County Air Pollution Control District | April 30, 2009 | June 1, 2009.
Santa Barbara County Air Pollution Control District | February 15, 2011 | March 7, 2011.
South Coast Air Quality Management District | July 3, 2009; June 25, 2010; and April 5, 2011 | August 27, 2009; July 14, 2010; and May 31, 2011.
Nevada Division of Environmental Protection | August 19, 2011; and July 20, 2012 | September 27, 2011; and August 13, 2012.
Clark County Department of Air Quality and Environmental Management | August 9, 2010; and May 14, 2012 | September 2, 2010; and July 5, 2012.
Washoe County Health District, Air Quality Management Division | January 15, 2009 | July 20, 2009.

B. Who is authorized to delegate these authorities?

Sections 111(c)(1) and 112(l) of the Clean Air Act, as amended in 1990, authorize the Administrator to delegate his or her authority for implementing and enforcing standards in 40 CFR Parts 60 and 61.

C. What does delegation accomplish?

Delegation grants a state or local agency the primary authority to implement and enforce federal standards. All required notifications and reports should be sent to the delegated state or local agency, as appropriate, with a copy to EPA Region IX. Acceptance of delegation constitutes agreement by the state or local agency to follow 40 CFR Parts 60 and 61, and EPA's test methods and continuous monitoring procedures.

D. What authorities are not delegated by EPA?

In general, EPA does not delegate to state or local agencies the authority to make decisions that are likely to be nationally significant, or alter the stringency of the underlying standards. For a more detailed description of the authorities in 40 CFR Parts 60 and 61 that are retained by EPA, please see the proposed rule published on January 14, 2002 (67 FR 1676).

As additional assurance of national consistency, state and local agencies must send to EPA Region IX Enforcement Division's Air Section Chief a copy of any written decisions made pursuant to the following delegated authorities:

• Applicability determinations that state a source is not subject to a rule or requirement;

• approvals or determination of construction, reconstruction, or modification;

• minor or intermediate site-specific changes to test methods or monitoring requirements; or

• site-specific changes or waivers of performance testing requirements.

For decisions that require EPA review and approval (for example, major changes to monitoring requirements), EPA intends to make determinations in a timely manner.

In some cases, the standards themselves specify that specific provisions cannot be delegated. State and local agencies should review each individual standard for this information.

E. Does EPA keep some authority?

EPA retains independent authority to enforce the standards and regulations of 40 CFR Parts 60 and 61.

II. EPA Action

Today's document serves to notify the public that EPA is updating the 40 CFR Parts 60 and 61 tables for Arizona, California, and Nevada to codify recent delegations of NSPS and NESHAPS as authorized under Sections 111(c)(1) and 112(1)(l) of the Clean Air Act.

III. Statutory and Executive Order Reviews

Under the Clean Air Act (CAA), the Administrator is required to approve delegation requests that comply with the provisions of the CAA and applicable Federal regulations. 42 U.S.C. Sections 7411(c) and 7412(l). Thus, in reviewing delegation submissions, EPA's role is to approve State choices, provided that they meet the criteria of the CAA. Accordingly, this action merely approves State law as meeting Federal requirements and does not impose additional requirements beyond those imposed by State law. For that reason, this action:

• Is not a “significant regulatory action” subject to review by the Office of Management and Budget under Executive Order 12866 (58 FR 51735, October 4, 1993);

• does not impose an information collection burden under the provisions of the Paperwork Reduction Act (44 U.S.C. Section 3501 et seq.);

• is certified as not having a significant economic impact on a substantial number of small entities under the Regulatory Flexibility Act (5 U.S.C. Section 601 et seq.);

• does not contain any unfunded mandate or significantly or uniquely affect small governments, as described in the Unfunded Mandates Reform Act of 1995 (2 U.S.C. Section 1501 et seq.);

• does not have federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. Section 272 note) because application of those requirements would be inconsistent with the CAA; and

• does not provide EPA with the discretionary authority to address disproportionate human health or environmental effects with practical, appropriate, and legally permissible methods under Executive Order 12898 (59 FR 7629, February 16, 1994).

In addition, this rule does not have tribal implications as specified by Executive Order 13175 (65 FR 67249, November 9, 2000), because the delegations are not approved to apply in Indian country located in the State, and EPA notes that it will not impose substantial direct costs on tribal governments or preempt tribal law.

The Congressional Review Act, 5 U.S.C. Section 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. Section 804(2).

Under Section 307(b)(1) of the CAA, petitions for judicial review of this action must be filed in the United States Court of Appeals for the appropriate circuit by July 1, 2013. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the Proposed Rules section of today's Federal Register, rather than file an immediate petition for judicial review of this direct final rule, so that EPA can withdraw this direct final rule and address the comment in the proposed rulemaking. This action may not be challenged later in proceedings to enforce its requirements (see Section 307(b)(2)).

List of Subjects in 40 CFR Parts 60 and 61

Environmental protection, Administrative practice and procedure, Air pollution control, Hazardous substances, Intergovernmental relations, Reporting and recordkeeping requirements.

__

Dated: April 12, 2013.
Deborah Jordan,
Director, Air Division, Region IX.

For the reasons set out in the preamble, title 40, chapter I, of the Code of Federal Regulations is amended as follows:

PART 60—[AMENDED]

1. The authority citation for part 60 continues to read as follows:

Authority: 42 U.S.C. 7401 et seq.

Subpart A—General Provisions

2. Section 60.4 is amended by revising the tables in paragraphs (d)(1), (d)(2)(vii), (d)(2)(viii), and (d)(4), and by revising paragraphs (d)(2)(i) and (d)(2)(v) to read as follows:

§ 60.4 Address.

* * * * *

(d) * * *

(1) * * *

Delegation Status for New Source Performance Standards for Arizona
| Subpart | Air pollution control agency: Arizona DEQ | Air pollution control agency: Maricopa County | Air pollution control agency: Pima County | Air pollution control agency: Pinal County
A | General Provisions | X | X | X | X
D | Fossil-Fuel Fired Steam Generators Constructed After August 17, 1971 | X | X | X | X
Da | Electric Utility Steam Generating Units Constructed After September 18, 1978 | X | X | X | X
Db | Industrial-Commercial-Institutional Steam Generating Units | X | X | X | X
Dc | Small Industrial-Commercial-Institutional Steam Generating Units | X | X | X | X
E | Incinerators | X | X | X | X
Ea | Municipal Waste Combustors Constructed After December 20, 1989 and On or Before September 20, 1994 | X | X | X | X
Eb | Large Municipal Waste Combustors Constructed After September 20, 1994 | X | X | X |
Ec | Hospital/Medical/Infectious Waste Incinerators for Which Construction is Commenced After June 20, 1996 | X | X | X |
F | Portland Cement Plants | X | X | X | X
G | Nitric Acid Plants | X | X | X | X
Ga | Nitric Acid Plants For Which Construction, Reconstruction or Modification Commenced After October 14, 2011 |  |  |  |
H | Sulfuric Acid Plant | X | X | X | X
I | Hot Mix Asphalt Facilities | X | X | X | X
J | Petroleum Refineries | X | X | X | X
Ja | Petroleum Refineries for Which Construction, Reconstruction, or Modification Commenced After May 14, 2007 |  | X |  |
K | Storage Vessels for Petroleum Liquids for Which Construction, Reconstruction, or Modification Commenced After June 11, 1973, and Prior to May 19, 1978 | X | X | X | X
Ka | Storage Vessels for Petroleum Liquids for Which Construction, Reconstruction, or Modification Commenced After May 18, 1978, and Prior to July 23, 1984 | X | X | X | X
Kb | Volatile Organic Liquid Storage Vessels (Including Petroleum Liquid Storage Vessels) for Which Construction, Reconstruction, or Modification Commenced After July 23, 1984 | X | X | X | X
L | Secondary Lead Smelters | X | X | X | X
M | Secondary Brass and Bronze Production Plants | X | X | X | X
N | Primary Emissions from Basic Oxygen Process Furnaces for Which Construction is Commenced After June 11, 1973 | X | X | X | X
Na | Secondary Emissions from Basic Oxygen Process Steelmaking Facilities for Which Construction is Commenced After January 20, 1983 | X | X | X | X
O | Sewage Treatment Plants | X | X | X | X
P | Primary Copper Smelters | X | X | X | X
Q | Primary Zinc Smelters | X | X | X | X
R | Primary Lead Smelters | X | X | X | X
S | Primary Aluminum Reduction Plants | X | X | X | X
T | Phosphate Fertilizer Industry: Wet Process Phosphoric Acid Plants | X | X | X | X
U | Phosphate Fertilizer Industry: Superphosphoric Acid Plants | X | X | X | X
V | Phosphate Fertilizer Industry: Diammonium Phosphate Plants | X | X | X | X
W | Phosphate Fertilizer Industry: Triple Superphosphate Plants | X | X | X | X
X | Phosphate Fertilizer Industry: Granular Triple Superphosphate Storage Facilities | X | X | X | X
Y | Coal Preparation and Processing Plants | X | X | X | X
Z | Ferroalloy Production Facilities | X | X | X | X
AA | Steel Plants: Electric Arc Furnaces Constructed After October 21, 1974 and On or Before August 17, 1983 | X | X | X | X
AAa | Steel Plants: Electric Arc Furnaces and Argon-Oxygen Decarburization Vessels Constructed After August 7, 1983 | X | X | X | X
BB | Kraft Pulp Mills | X | X | X | X
CC | Glass Manufacturing Plants | X | X | X | X
DD | Grain Elevators | X | X | X | X
EE | Surface Coating of Metal Furniture | X | X | X | X
FF | (Reserved) |  |  |  |
GG | Stationary Gas Turbines | X | X | X | X
HH | Lime Manufacturing Plants | X | X | X | X
KK | Lead-Acid Battery Manufacturing Plants | X | X | X | X
LL | Metallic Mineral Processing Plants | X | X | X | X
MM | Automobile and Light Duty Trucks Surface Coating Operations | X | X | X | X
NN | Phosphate Rock Plants | X | X | X | X
PP | Ammonium Sulfate Manufacture | X | X | X | X
QQ | Graphic Arts Industry: Publication Rotogravure Printing | X | X | X | X
RR | Pressure Sensitive Tape and Label Surface Coating Operations | X | X | X | X
SS | Industrial Surface Coating: Large Appliances | X | X | X | X
TT | Metal Coil Surface Coating | X | X | X | X
UU | Asphalt Processing and Asphalt Roofing Manufacture | X | X | X | X
VV | Equipment Leaks of VOC in the Synthetic Organic Industry Chemicals Manufacturing | X | X | X | X
VVa | Equipment Leaks of VOC in the Synthetic Organic Industry for Which Construction, Reconstruction, or Chemicals Manufacturing Modification Commenced After November 7, 2006 | X | X |  |
WW | Beverage Can Surface Coating Industry | X | X | X | X
XX | Bulk Gasoline Terminals | X | X | X | X
AAA | New Residential Wood Heaters | X | X | X | X
BBB | Rubber Tire Manufacturing Industry | X | X | X | X
CCC | (Reserved) |  |  |  |
DDD | Volatile Organic Compounds (VOC) Emissions from the Polymer Manufacturing Industry | X | X | X | X
EEE | (Reserved) |  |  |  |
FFF | Flexible Vinyl and Urethane Coating and Printing | X | X | X | X
GGG | Equipment Leaks of VOC in Petroleum Refineries | X | X | X | X
GGGa | Equipment Leaks of VOC in Petroleum Refineries for Which Construction, Reconstruction, or Modification Commenced After November 7, 2006 | X | X |  |
HHH | Synthetic Fiber Production Facilities | X | X | X | X
III | Volatile Organic Compound (VOC) Emissions From the Synthetic Organic Chemical Manufacturing Industry (SOCMI) Air Oxidation Unit Processes | X | X | X | X
JJJ | Petroleum Dry Cleaners | X | X | X | X
KKK | Equipment Leaks of VOC From Onshore Natural Gas Processing Plants | X | X | X | X
LLL | Onshore Natural Gas Processing: SO2 Emissions | X | X | X | X
MMM | (Reserved) |  |  |  |
NNN | Volatile Organic Compound (VOC) Emissions From Synthetic Organic Chemical Manufacturing Industry (SOCMI) Distillation Operations | X | X | X | X
OOO | Nonmetallic Mineral Processing Plants | X | X | X | X
PPP | Wool Fiberglass Insulation Manufacturing Plants | X | X | X | X
QQQ | VOC Emissions From Petroleum Refinery Wastewater Systems | X | X | X | X
RRR | Volatile Organic Compound Emissions from Synthetic Organic Chemical Manufacturing Industry (SOCMI) Reactor Processes | X | X |  |
SSS | Magnetic Tape Coating Facilities | X | X | X | X
TTT | Industrial Surface Coating: Surface Coating of Plastic Parts for Business Machines | X | X | X | X
UUU | Calciners and Dryers in Mineral Industries | X | X | X |
VVV | Polymeric Coating of Supporting Substrates Facilities | X | X | X | X
WWW | Municipal Solid Waste Landfills | X | X | X |
AAAA | Small Municipal Waste Combustion Units for Which Construction is Commenced After August 30, 1999 or for Which Modification or Reconstruction is Commended After June 6, 2001 | X | X | X |
CCCC | Commercial and Industrial Solid Waste Incineration Units for Which Construction Is Commenced After November 30, 1999 or for Which Modification or Reconstruction Is Commenced on or After June 1, 2001 | X | X | X |
EEEE | Other Solid Waste Incineration Units for Which Construction is Commenced After December 9, 2004, or for Which Modification or Reconstruction is Commenced on or After June 16, 2006 | X | X |  |
GGGG | (Reserved) |  |  |  |
HHHH | (Reserved) |  |  |  |
IIII | Stationary Compression Ignition Internal Combustion Engines | X | X |  |
JJJJ | Stationary Spark Ignition Internal Combustion Engines |  | X |  |
KKKK | Stationary Combustion Turbines | X | X |  |
LLLL | New Sewage Sludge Incineration Units |  |  |  |
OOOO | Crude Oil and Natural Gas Production, Transmission, and Distribution |  |  |  |

(2) * * *

(i) Delegations for Amador County Air Pollution Control District, Antelope Valley Air Quality Management District, Bay Area Air Quality Management District, and Butte County Air Quality Management District are shown in the following table:

Delegation Status for New Source Performance Standards for Amador County APCD, Antelope Valley AQMD, Bay Area AQMD, and Butte County AQMD
| Subpart | Air pollution control agency: Amador County APCD | Air pollution control agency: Antelope Valley AQMD | Air pollution control agency: Bay Area AQMD | Air pollution control agency: Butte County AQMD
A | General Provisions |  | X |  |
D | Fossil-Fuel Fired Steam Generators Constructed After August 17, 1971 |  | X | X |
Da | Electric Utility Steam Generating Units Constructed After September 18, 1978 |  | X | X |
Db | Industrial-Commercial-Institutional Steam Generating Units |  | X | X |
Dc | Small Industrial-Commercial-Institutional Steam Generating Units |  | X | X |
E | Incinerators |  | X | X |
Ea | Municipal Waste Combustors Constructed After December 20, 1989 and On or Before September 20, 1994 |  | X | X |
Eb | Large Municipal Waste Combustors Constructed After September 20, 1994 |  | X |  |
Ec | Hospital/Medical/Infectious Waste Incinerators for Which Construction is Commenced After June 20, 1996 |  | X |  |
F | Portland Cement Plants |  | X | X |
G | Nitric Acid Plants |  | X | X |
Ga | Nitric Acid Plants For Which Construction, Reconstruction or Modification Commenced After October 14, 2011 |  |  |  |
H | Sulfuric Acid Plant |  | X | X |
I | Hot Mix Asphalt Facilities |  | X | X |
J | Petroleum Refineries |  | X | X |
Ja | Petroleum Refineries for Which Construction, Reconstruction, or Modification Commenced After May 14, 2007 |  | X |  |
K | Storage Vessels for Petroleum Liquids for Which Construction, Reconstruction, or Modification Commenced After June 11, 1973, and Prior to May 19, 1978 |  | X | X |
Ka | Storage Vessels for Petroleum Liquids for Which Construction, Reconstruction, or Modification Commenced After May 18, 1978, and Prior to July 23, 1984 |  | X | X |
Kb | Volatile Organic Liquid Storage Vessels (Including Petroleum Liquid Storage Vessels) for Which Construction, Reconstruction, or Modification Commenced After July 23, 1984 |  | X | X |
L | Secondary Lead Smelters |  | X | X |
M | Secondary Brass and Bronze Production Plants |  | X | X |
N | Primary Emissions from Basic Oxygen Process Furnaces for Which Construction is Commenced After June 11, 1973 |  | X | X |
Na | Secondary Emissions from Basic Oxygen Process Steelmaking Facilities for Which Construction is Commenced After January 20, 1983 |  | X | X |
O | Sewage Treatment Plants |  | X | X |
P | Primary Copper Smelters |  | X | X |
Q | Primary Zinc Smelters |  | X | X |
R | Primary Lead Smelters |  | X | X |
S | Primary Aluminum Reduction Plants |  | X | X |
T | Phosphate Fertilizer Industry: Wet Process Phosphoric Acid Plants |  | X |  |
U | Phosphate Fertilizer Industry: Superphosphoric Acid Plants |  | X | X |
V | Phosphate Fertilizer Industry: Diammonium Phosphate Plants |  | X | X |
W | Phosphate Fertilizer Industry: Triple Superphosphate Plants |  | X | X |
X | Phosphate Fertilizer Industry: Granular Triple Superphosphate Storage Facilities |  | X | X |
Y | Coal Preparation and Processing Plants |  | X | X |
Z | Ferroalloy Production Facilities |  | X | X |
AA | Steel Plants: Electric Arc Furnaces Constructed After October 21, 1974 and On or Before August 17, 1983 |  | X | X |
AAa | Steel Plants: Electric Arc Furnaces and Argon-Oxygen Decarburization Vessels Constructed After August 7, 1983 |  | X | X |
BB | Kraft Pulp Mills |  | X | X |
CC | Glass Manufacturing Plants |  | X | X |
DD | Grain Elevators |  | X | X |
EE | Surface Coating of Metal Furniture |  | X | X |
FF | (Reserved) |  |  |  |
GG | Stationary Gas Turbines |  | X | X |
HH | Lime Manufacturing Plants |  | X | X |
KK | Lead-Acid Battery Manufacturing Plants |  | X | X |
LL | Metallic Mineral Processing Plants |  | X | X |
MM | Automobile and Light Duty Trucks Surface Coating Operations |  | X | X |
NN | Phosphate Rock Plants |  | X | X |
PP | Ammonium Sulfate Manufacture |  | X | X |
QQ | Graphic Arts Industry: Publication Rotogravure Printing |  | X | X |
RR | Pressure Sensitive Tape and Label Surface Coating Operations |  | X | X |
SS | Industrial Surface Coating: Large Appliances |  | X | X |
TT | Metal Coil Surface Coating |  | X | X |
UU | Asphalt Processing and Asphalt Roofing Manufacture |  | X | X |
VV | Equipment Leaks of VOC in the Synthetic Organic Industry Chemicals Manufacturing |  | X | X |
VVa | Equipment Leaks of VOC in the Synthetic Organic Industry for Which Construction, Reconstruction, or Chemicals Manufacturing Modification Commenced After November 7, 2006 |  | X |  |
WW | Beverage Can Surface Coating Industry |  | X | X |
XX | Bulk Gasoline Terminals |  |  |  |
AAA | New Residential Wood Heaters |  | X | X |
BBB | Rubber Tire Manufacturing Industry |  | X | X |
CCC | (Reserved) |  |  |  |
DDD | Volatile Organic Compounds (VOC) Emissions from the Polymer Manufacturing Industry |  | X | X |
EEE | (Reserved) |  |  |  |
FFF | Flexible Vinyl and Urethane Coating and Printing |  | X | X |
GGG | Equipment Leaks of VOC in Petroleum Refineries |  | X | X |
GGGa | Equipment Leaks of VOC in Petroleum Refineries for Which Construction, Reconstruction, or Modification Commenced After November 7, 2006 |  | X |  |
HHH | Synthetic Fiber Production Facilities |  | X | X |
III | Volatile Organic Compound (VOC) Emissions From the Synthetic Organic Chemical Manufacturing Industry (SOCMI) Air Oxidation Unit Processes |  | X |  |
JJJ | Petroleum Dry Cleaners |  | X | X |
KKK | Equipment Leaks of VOC From Onshore Natural Gas Processing Plants |  | X | X |
LLL | Onshore Natural Gas Processing: SO2 Emissions |  | X |  |
MMM | (Reserved) |  |  |  |
NNN | Volatile Organic Compound (VOC) Emissions From Synthetic Organic Chemical Manufacturing Industry (SOCMI) Distillation Operations |  | X | X |
OOO | Nonmetallic Mineral Processing Plants |  | X | X |
PPP | Wool Fiberglass Insulation Manufacturing Plants |  | X | X |
QQQ | VOC Emissions From Petroleum Refinery Wastewater Systems |  | X |  |
RRR | Volatile Organic Compound Emissions from Synthetic Organic Chemical Manufacturing Industry (SOCMI) Reactor Processes |  | X |  |
SSS | Magnetic Tape Coating Facilities |  | X | X |
TTT | Industrial Surface Coating: Surface Coating of Plastic Parts for Business Machines |  | X | X |
UUU | Calciners and Dryers in Mineral Industries |  | X | X |
VVV | Polymeric Coating of Supporting Substrates Facilities |  | X | X |
WWW | Municipal Solid Waste Landfills |  | X |  |
AAAA | Small Municipal Waste Combustion Units for Which Construction is Commenced After August 30, 1999 or for Which Modification or Reconstruction is Commended After June 6, 2001 |  | X |  |
CCCC | Commercial and Industrial Solid Waste Incineration Units for Which Construction Is Commenced After November 30, 1999 or for Which Modification or Reconstruction Is Commenced on or After June 1, 2001 |  | X |  |
EEEE | Other Solid Waste Incineration Units for Which Construction is Commenced After December 9, 2004, or for Which Modification or Reconstruction is Commenced on or After June 16, 2006 |  | X |  |
GGGG | (Reserved) |  |  |  |
HHHH | (Reserved) |  |  |  |
IIII | Stationary Compression Ignition Internal Combustion Engines |  | X |  |
JJJJ | Stationary Spark Ignition Internal Combustion Engines |  | X |  |
KKKK | Stationary Combustion Turbines |  | X |  |
LLLL | New Sewage Sludge Incineration Units |  |  |  |
OOOO | Crude Oil and Natural Gas Production, Transmission, and Distribution |  |  |  |

* * * * *

(v) Delegations for Modoc Air Pollution Control District, Mojave Desert Air Quality Management District, Monterey Bay Unified Air Pollution Control District and North Coast Unified Air Quality Management District are shown in the following table:

Delegation Status for New Source Performance Standards for Modoc County APCD, Mojave Desert AQMD, Monterey Bay Unified APCD, and North Coast Unified AQMD
| Subpart | Air pollution control agency: Modoc County APCD | Air pollution control agency: Mojave Desert AQMD | Air pollution control agency: Monterey Bay Unified APCD | Air pollution control agency: North Coast Unified AQMD
A | General Provisions | X | X | X | X
D | Fossil-Fuel Fired Steam Generators Constructed After August 17, 1971 | X | X | X | X
Da | Electric Utility Steam Generating Units Constructed After September 18, 1978 | X | X | X | X
Db | Industrial-Commercial-Institutional Steam Generating Units | X | X | X | X
Dc | Small Industrial-Commercial-Institutional Steam Generating Units |  | X | X |
E | Incinerators | X | X | X | X
Ea | Municipal Waste Combustors Constructed After December 20, 1989 and On or Before September 20, 1994 |  | X |  |
Eb | Large Municipal Waste Combustors Constructed After September 20, 1994 |  | X |  |
Ec | Hospital/Medical/Infectious Waste Incinerators for Which Construction is Commenced After June 20, 1996 |  | X |  |
F | Portland Cement Plants | X | X | X | X
G | Nitric Acid Plants | X | X | X | X
Ga | Nitric Acid Plants For Which Construction, Reconstruction or Modification Commenced After October 14, 2011 |  |  |  |
H | Sulfuric Acid Plant | X | X | X | X
I | Hot Mix Asphalt Facilities | X | X | X | X
J | Petroleum Refineries | X | X | X | X
Ja | Petroleum Refineries for Which Construction, Reconstruction, or Modification Commenced After May 14, 2007 |  | X |  |
K | Storage Vessels for Petroleum Liquids for Which Construction, Reconstruction, or Modification Commenced After June 11, 1973, and Prior to May 19, 1978 | X | X | X | X
Ka | Storage Vessels for Petroleum Liquids for Which Construction, Reconstruction, or Modification Commenced After May 18, 1978, and Prior to July 23, 1984 | X | X | X | X
Kb | Volatile Organic Liquid Storage Vessels (Including Petroleum Liquid Storage Vessels) for Which Construction, Reconstruction, or Modification Commenced After July 23, 1984 | X | X | X | X
L | Secondary Lead Smelters | X | X | X | X
M | Secondary Brass and Bronze Production Plants | X | X | X | X
N | Primary Emissions from Basic Oxygen Process Furnaces for Which Construction is Commenced After June 11, 1973 | X | X | X | X
Na | Secondary Emissions from Basic Oxygen Process Steelmaking Facilities for Which Construction is Commenced After January 20, 1983 | X | X | X | X
O | Sewage Treatment Plants | X | X | X | X
P | Primary Copper Smelters | X | X | X | X
Q | Primary Zinc Smelters | X | X | X | X
R | Primary Lead Smelters | X | X | X | X
S | Primary Aluminum Reduction Plants | X | X | X | X
T | Phosphate Fertilizer Industry: Wet Process Phosphoric Acid Plants | X | X | X | X
U | Phosphate Fertilizer Industry: Superphosphoric Acid Plants | X | X | X | X
V | Phosphate Fertilizer Industry: Diammonium Phosphate Plants | X | X | X | X
W | Phosphate Fertilizer Industry: Triple Superphosphate Plants | X | X | X | X
X | Phosphate Fertilizer Industry: Granular Triple Superphosphate Storage Facilities | X | X | X | X
Y | Coal Preparation and Processing Plants | X | X | X | X
Z | Ferroalloy Production Facilities | X | X | X | X
AA | Steel Plants: Electric Arc Furnaces Constructed After October 21, 1974 and On or Before August 17, 1983 | X | X | X | X
AAa | Steel Plants: Electric Arc Furnaces and Argon-Oxygen Decarburization Vessels Constructed After August 7, 1983 | X | X | X | X
BB | Kraft Pulp Mills | X | X | X | X
CC | Glass Manufacturing Plants | X | X | X | X
DD | Grain Elevators | X | X | X | X
EE | Surface Coating of Metal Furniture | X | X | X | X
FF | (Reserved) |  |  |  |
GG | Stationary Gas Turbines | X | X | X | X
HH | Lime Manufacturing Plants | X | X | X | X
KK | Lead-Acid Battery Manufacturing Plants | X | X | X | X
LL | Metallic Mineral Processing Plants | X | X | X | X
MM | Automobile and Light Duty Trucks Surface Coating Operations | X | X | X | X
NN | Phosphate Rock Plants | X | X | X | X
PP | Ammonium Sulfate Manufacture | X | X | X | X
QQ | Graphic Arts Industry: Publication Rotogravure Printing | X | X | X | X
RR | Pressure Sensitive Tape and Label Surface Coating Operations | X | X | X | X
SS | Industrial Surface Coating: Large Appliances | X | X | X | X
TT | Metal Coil Surface Coating | X | X | X | X
UU | Asphalt Processing and Asphalt Roofing Manufacture | X | X | X | X
VV | Equipment Leaks of VOC in the Synthetic Organic Industry Chemicals Manufacturing | X | X | X | X
VVa | Equipment Leaks of VOC in the Synthetic Organic Industry for Which Construction, Reconstruction, or Chemicals Manufacturing Modification Commenced After November 7, 2006 |  | X |  |
WW | Beverage Can Surface Coating Industry | X | X | X | X
XX | Bulk Gasoline Terminals |  |  |  |
AAA | New Residential Wood Heaters | X | X | X | X
BBB | Rubber Tire Manufacturing Industry | X | X | X | X
CCC | (Reserved) |  |  |  |
DDD | Volatile Organic Compounds (VOC) Emissions from the Polymer Manufacturing Industry | X | X | X |
EEE | (Reserved) |  |  |  |
FFF | Flexible Vinyl and Urethane Coating and Printing | X | X | X | X
GGG | Equipment Leaks of VOC in Petroleum Refineries | X | X | X | X
GGGa | Equipment Leaks of VOC in Petroleum Refineries for Which Construction, Reconstruction, or Modification Commenced After November 7, 2006 |  | X |  |
HHH | Synthetic Fiber Production Facilities | X | X | X | X
III | Volatile Organic Compound (VOC) Emissions From the Synthetic Organic Chemical Manufacturing Industry (SOCMI) Air Oxidation Unit Processes |  | X |  |
JJJ | Petroleum Dry Cleaners | X | X | X | X
KKK | Equipment Leaks of VOC From Onshore Natural Gas Processing Plants | X | X | X | X
LLL | Onshore Natural Gas Processing: SO2 Emissions | X | X | X | X
MMM | (Reserved) |  |  |  |
NNN | Volatile Organic Compound (VOC) Emissions From Synthetic Organic Chemical Manufacturing Industry (SOCMI) Distillation Operations | X | X | X |
OOO | Nonmetallic Mineral Processing Plants | X | X | X | X
PPP | Wool Fiberglass Insulation Manufacturing Plants | X | X | X | X
QQQ | VOC Emissions From Petroleum Refinery Wastewater Systems | X | X | X | X
RRR | Volatile Organic Compound Emissions from Synthetic Organic Chemical Manufacturing Industry (SOCMI) Reactor Processes |  | X |  |
SSS | Magnetic Tape Coating Facilities | X | X | X | X
TTT | Industrial Surface Coating: Surface Coating of Plastic Parts for Business Machines | X | X | X | X
UUU | Calciners and Dryers in Mineral Industries |  | X | X |
VVV | Polymeric Coating of Supporting Substrates Facilities |  | X | X | X
WWW | Municipal Solid Waste Landfills |  | X |  |
AAAA | Small Municipal Waste Combustion Units for Which Construction is Commenced After August 30, 1999 or for Which Modification or Reconstruction is Commended After June 6, 2001 |  | X |  |
CCCC | Commercial and Industrial Solid Waste Incineration Units for Which Construction Is Commenced After November 30, 1999 or for Which Modification or Reconstruction Is Commenced on or After June 1, 2001 |  | X |  |
EEEE | Other Solid Waste Incineration Units for Which Construction is Commenced After December 9, 2004, or for Which Modification or Reconstruction is Commenced on or After June 16, 2006 |  | X |  |
GGGG | (Reserved) |  |  |  |
HHHH | (Reserved) |  |  |  |
IIII | Stationary Compression Ignition Internal Combustion Engines |  | X |  |
JJJJ | Stationary Spark Ignition Internal Combustion Engines |  | X |  |
KKKK | Stationary Combustion Turbines |  | X |  |
LLLL | New Sewage Sludge Incineration Units |  |  |  |
OOOO | Crude Oil and Natural Gas Production, Transmission, and Distribution |  |  |  |

* * * * *

(vii) * * *

Delegation Status for New Source Performance Standards for San Diego County APCD, San Joaquin Valley Unified APCD, San Luis Obispo County APCD, and Santa Barbara County APCD
| Subpart | Air pollution control agency: San Diego County APCD | Air pollution control agency: San Joaquin Valley Unified APCD | Air pollution control agency: San Luis Obispo County APCD | Air pollution control agency: Santa Barbara County APCD
A | General Provisions | X | X | X | X
D | Fossil-Fuel Fired Steam Generators Constructed After August 17, 1971 | X | X | X | X
Da | Electric Utility Steam Generating Units Constructed After September 18, 1978 | X | X | X | X
Db | Industrial-Commercial-Institutional Steam Generating Units | X | X | X | X
Dc | Small Industrial-Commercial-Institutional Steam Generating Units | X | X | X | X
E | Incinerators | X | X | X | X
Ea | Municipal Waste Combustors Constructed After December 20, 1989 and On or Before September 20, 1994 | X | X | X |
Eb | Large Municipal Waste Combustors Constructed After September 20, 1994 | X | X |  | X
Ec | Hospital/Medical/Infectious Waste Incinerators for Which Construction is Commenced After June 20, 1996 | X |  |  | X
F | Portland Cement Plants | X | X | X |
G | Nitric Acid Plants | X | X | X |
Ga | Nitric Acid Plants For Which Construction, Reconstruction or Modification Commenced After October 14, 2011 |  |  |  |
H | Sulfuric Acid Plant | X | X | X |
I | Hot Mix Asphalt Facilities | X | X | X | X
J | Petroleum Refineries | X | X | X | X
Ja | Petroleum Refineries for Which Construction, Reconstruction, or Modification Commenced After May 14, 2007 |  |  |  | X
K | Storage Vessels for Petroleum Liquids for Which Construction, Reconstruction, or Modification Commenced After June 11, 1973, and Prior to May 19, 1978 | X | X | X | X
Ka | Storage Vessels for Petroleum Liquids for Which Construction, Reconstruction, or Modification Commenced After May 18, 1978, and Prior to July 23, 1984 | X | X | X | X
Kb | Volatile Organic Liquid Storage Vessels (Including Petroleum Liquid Storage Vessels) for Which Construction, Reconstruction, or Modification Commenced After July 23, 1984 | X | X | X | X
L | Secondary Lead Smelters | X | X | X | X
M | Secondary Brass and Bronze Production Plants | X | X | X | X
N | Primary Emissions from Basic Oxygen Process Furnaces for Which Construction is Commenced After June 11, 1973 | X | X | X |
Na | Secondary Emissions from Basic Oxygen Process Steelmaking Facilities for Which Construction is Commenced After January 20, 1983 | X | X | X |
O | Sewage Treatment Plants | X | X | X | X
P | Primary Copper Smelters | X | X | X |
Q | Primary Zinc Smelters | X | X | X |
R | Primary Lead Smelters | X | X | X |
S | Primary Aluminum Reduction Plants | X | X | X |
T | Phosphate Fertilizer Industry: Wet Process Phosphoric Acid Plants | X | X | X |
U | Phosphate Fertilizer Industry: Superphosphoric Acid Plants | X | X | X |
V | Phosphate Fertilizer Industry: Diammonium Phosphate Plants | X | X | X |
W | Phosphate Fertilizer Industry: Triple Superphosphate Plants | X | X | X |
X | Phosphate Fertilizer Industry: Granular Triple Superphosphate Storage Facilities | X | X | X |
Y | Coal Preparation and Processing Plants | X | X | X |
Z | Ferroalloy Production Facilities | X | X | X |
AA | Steel Plants: Electric Arc Furnaces Constructed After October 21, 1974 and On or Before August 17, 1983 | X | X | X |
AAa | Steel Plants: Electric Arc Furnaces and Argon-Oxygen Decarburization Vessels Constructed After August 7, 1983 | X | X | X |
BB | Kraft Pulp Mills | X | X | X |
CC | Glass Manufacturing Plants | X | X | X | X
DD | Grain Elevators | X | X | X | X
EE | Surface Coating of Metal Furniture | X | X | X |
FF | (Reserved) |  |  |  |
GG | Stationary Gas Turbines | X | X | X | X
HH | Lime Manufacturing Plants | X | X | X |
KK | Lead-Acid Battery Manufacturing Plants | X | X | X |
LL | Metallic Mineral Processing Plants | X | X | X |
MM | Automobile and Light Duty Trucks Surface Coating Operations | X | X | X |
NN | Phosphate Rock Plants | X | X | X |
PP | Ammonium Sulfate Manufacture | X | X | X |
QQ | Graphic Arts Industry: Publication Rotogravure Printing | X | X | X |
RR | Pressure Sensitive Tape and Label Surface Coating Operations | X | X | X |
SS | Industrial Surface Coating: Large Appliances | X | X | X |
TT | Metal Coil Surface Coating | X | X | X |
UU | Asphalt Processing and Asphalt Roofing Manufacture | X | X | X |
VV | Equipment Leaks of VOC in the Synthetic Organic Industry Chemicals Manufacturing | X | X | X |
VVa | Equipment Leaks of VOC in the Synthetic Organic Industry for Which Construction, Reconstruction, or Chemicals Manufacturing Modification Commenced After November 7, 2006 |  |  |  | X
WW | Beverage Can Surface Coating Industry | X | X | X |
XX | Bulk Gasoline Terminals |  |  |  |
AAA | New Residential Wood Heaters | X | X | X | X
BBB | Rubber Tire Manufacturing Industry | X | X | X |
CCC | (Reserved) |  |  |  |
DDD | Volatile Organic Compounds (VOC) Emissions from the Polymer Manufacturing Industry | X | X |  |
EEE | (Reserved) |  |  |  |
FFF | Flexible Vinyl and Urethane Coating and Printing | X | X | X |
GGG | Equipment Leaks of VOC in Petroleum Refineries | X | X | X |
GGGa | Equipment Leaks of VOC in Petroleum Refineries for Which Construction, Reconstruction, or Modification Commenced After November 7, 2006 |  |  |  | X
HHH | Synthetic Fiber Production Facilities | X | X | X |
III | Volatile Organic Compound (VOC) Emissions From the Synthetic Organic Chemical Manufacturing Industry (SOCMI) Air Oxidation Unit Processes | X | X |  |
JJJ | Petroleum Dry Cleaners | X | X | X |
KKK | Equipment Leaks of VOC From Onshore Natural Gas Processing Plants | X | X | X |
LLL | Onshore Natural Gas Processing: SO2 Emissions | X | X | X |
MMM | (Reserved) |  |  |  |
NNN | Volatile Organic Compound (VOC) Emissions From Synthetic Organic Chemical Manufacturing Industry (SOCMI) Distillation Operations | X | X |  |
OOO | Nonmetallic Mineral Processing Plants | X | X | X | X
PPP | Wool Fiberglass Insulation Manufacturing Plants | X | X | X |
QQQ | VOC Emissions From Petroleum Refinery Wastewater Systems | X | X | X |
RRR | Volatile Organic Compound Emissions from Synthetic Organic Chemical Manufacturing Industry (SOCMI) Reactor Processes | X | X | X |
SSS | Magnetic Tape Coating Facilities | X | X | X |
TTT | Industrial Surface Coating: Surface Coating of Plastic Parts for Business Machines | X | X | X |
UUU | Calciners and Dryers in Mineral Industries | X | X | X | X
VVV | Polymeric Coating of Supporting Substrates Facilities | X | X | X | X
WWW | Municipal Solid Waste Landfills | X | X | X | X
AAAA | Small Municipal Waste Combustion Units for Which Construction is Commenced After August 30, 1999 or for Which Modification or Reconstruction is Commended After June 6, 2001 | X |  |  | X
CCCC | Commercial and Industrial Solid Waste Incineration Units for Which Construction Is Commenced After November 30, 1999 or for Which Modification or Reconstruction Is Commenced on or After June 1, 2001 | X |  |  | X
EEEE | Other Solid Waste Incineration Units for Which Construction is Commenced After December 9, 2004, or for Which Modification or Reconstruction is Commenced on or After June 16, 2006 | X |  |  | X
GGGG | (Reserved) |  |  |  |
HHHH | (Reserved) |  |  |  |
IIII | Stationary Compression Ignition Internal Combustion Engines |  |  |  | X
JJJJ | Stationary Spark Ignition Internal Combustion Engines |  |  |  | X
KKKK | Stationary Combustion Turbines | X |  |  | X
LLLL | New Sewage Sludge Incineration Units |  |  |  |
OOOO | Crude Oil and Natural Gas Production, Transmission, and Distribution |  |  |  |

* * * * *

(viii) * * *

Delegation Status for New Source Performance Standards for Shasta County AQMD, Siskiyou County APCD, South Coast AQMD, and Tehama County APCD
| Subpart | Air pollution control agency: Shasta County AQMD | Air pollution control agency: Siskiyou County APCD | Air pollution control agency: South Coast AQMD | Air pollution control agency: Tehama County APCD
A | General Provisions | X | X | X |
D | Fossil-Fuel Fired Steam Generators Constructed After August 17, 1971 | X |  | X |
Da | Electric Utility Steam Generating Units Constructed After September 18, 1978 |  |  | X |
Db | Industrial-Commercial-Institutional Steam Generating Units |  |  | X |
Dc | Small Industrial-Commercial-Institutional Steam Generating Units |  |  | X |
E | Incinerators | X |  | X |
Ea | Municipal Waste Combustors Constructed After December 20, 1989 and On or Before September 20, 1994 |  |  | X |
Eb | Large Municipal Waste Combustors Constructed After September 20, 1994 |  |  | X |
Ec | Hospital/Medical/Infectious Waste Incinerators for Which Construction is Commenced After June 20, 1996 |  |  | X |
F | Portland Cement Plants | X |  | X |
G | Nitric Acid Plants | X |  | X |
Ga | Nitric Acid Plants For Which Construction, Reconstruction or Modification Commenced After October 14, 2011 |  |  |  |
H | Sulfuric Acid Plant | X |  | X |
I | Hot Mix Asphalt Facilities | X |  | X |
J | Petroleum Refineries | X |  | X |
Ja | Petroleum Refineries for Which Construction, Reconstruction, or Modification Commenced After May 14, 2007 |  |  | X |
K | Storage Vessels for Petroleum Liquids for Which Construction, Reconstruction, or Modification Commenced After June 11, 1973, and Prior to May 19, 1978 | X |  | X |
Ka | Storage Vessels for Petroleum Liquids for Which Construction, Reconstruction, or Modification Commenced After May 18, 1978, and Prior to July 23, 1984 |  |  | X |
Kb | Volatile Organic Liquid Storage Vessels (Including Petroleum Liquid Storage Vessels) for Which Construction, Reconstruction, or Modification Commenced After July 23, 1984 |  |  | X |
L | Secondary Lead Smelters | X |  | X |
M | Secondary Brass and Bronze Production Plants | X |  | X |
N | Primary Emissions from Basic Oxygen Process Furnaces for Which Construction is Commenced After June 11, 1973 | X |  | X |
Na | Secondary Emissions from Basic Oxygen Process Steelmaking Facilities for Which Construction is Commenced After January 20, 1983 |  |  | X |
O | Sewage Treatment Plants | X |  | X |
P | Primary Copper Smelters | X |  | X |
Q | Primary Zinc Smelters | X |  | X |
R | Primary Lead Smelters | X |  | X |
S | Primary Aluminum Reduction Plants | X |  | X |
T | Phosphate Fertilizer Industry: Wet Process Phosphoric Acid Plants | X |  | X |
U | Phosphate Fertilizer Industry: Superphosphoric Acid Plants | X |  | X |
V | Phosphate Fertilizer Industry: Diammonium Phosphate Plants | X |  | X |
W | Phosphate Fertilizer Industry: Triple Superphosphate Plants | X |  | X |
X | Phosphate Fertilizer Industry: Granular Triple Superphosphate Storage Facilities | X |  | X |
Y | Coal Preparation and Processing Plants | X |  | X |
Z | Ferroalloy Production Facilities | X |  | X |
AA | Steel Plants: Electric Arc Furnaces Constructed After October 21, 1974 and On or Before August 17, 1983 | X |  | X |
AAa | Steel Plants: Electric Arc Furnaces and Argon-Oxygen Decarburization Vessels Constructed After August 7, 1983 |  |  | X |
BB | Kraft Pulp Mills | X |  | X |
CC | Glass Manufacturing Plants |  |  | X |
DD | Grain Elevators | X |  | X |
EE | Surface Coating of Metal Furniture |  |  | X |
FF | (Reserved) |  |  |  |
GG | Stationary Gas Turbines |  |  | X |
HH | Lime Manufacturing Plants | X |  | X |
KK | Lead-Acid Battery Manufacturing Plants |  |  | X |
LL | Metallic Mineral Processing Plants |  |  | X |
MM | Automobile and Light Duty Trucks Surface Coating Operations |  |  | X |
NN | Phosphate Rock Plants |  |  | X |
PP | Ammonium Sulfate Manufacture |  |  | X |
QQ | Graphic Arts Industry: Publication Rotogravure Printing |  |  | X |
RR | Pressure Sensitive Tape and Label Surface Coating Operations |  |  | X |
SS | Industrial Surface Coating: Large Appliances |  |  | X |
TT | Metal Coil Surface Coating |  |  | X |
UU | Asphalt Processing and Asphalt Roofing Manufacture |  |  | X |
VV | Equipment Leaks of VOC in the Synthetic Organic Industry Chemicals Manufacturing |  |  | X |
VVa | Equipment Leaks of VOC in the Synthetic Organic Industry for Which Construction, Reconstruction, or Chemicals Manufacturing Modification Commenced After November 7, 2006 |  |  | X |
WW | Beverage Can Surface Coating Industry |  |  | X |
XX | Bulk Gasoline Terminals |  |  |  |
AAA | New Residential Wood Heaters |  | X | X |
BBB | Rubber Tire Manufacturing Industry |  | X | X |
CCC | (Reserved) |  |  |  |
DDD | Volatile Organic Compounds (VOC) Emissions from the Polymer Manufacturing Industry |  |  | X |
EEE | (Reserved) |  |  |  |
FFF | Flexible Vinyl and Urethane Coating and Printing |  |  | X |
GGG | Equipment Leaks of VOC in Petroleum Refineries |  |  | X |
GGGa | Equipment Leaks of VOC in Petroleum Refineries for Which Construction, Reconstruction, or Modification Commenced After November 7, 2006 |  |  | X |
HHH | Synthetic Fiber Production Facilities |  |  | X |
III | Volatile Organic Compound (VOC) Emissions From the Synthetic Organic Chemical Manufacturing Industry (SOCMI) Air Oxidation Unit Processes |  |  | X |
JJJ | Petroleum Dry Cleaners |  |  | X |
KKK | Equipment Leaks of VOC From Onshore Natural Gas Processing Plants |  |  | X |
LLL | Onshore Natural Gas Processing: SO2 Emissions |  |  | X |
MMM | (Reserved) |  |  |  |
NNN | Volatile Organic Compound (VOC) Emissions From Synthetic Organic Chemical Manufacturing Industry (SOCMI) Distillation Operations |  |  | X |
OOO | Nonmetallic Mineral Processing Plants |  |  | X |
PPP | Wool Fiberglass Insulation Manufacturing Plants |  |  | X |
QQQ | VOC Emissions From Petroleum Refinery Wastewater Systems |  | X | X |
RRR | Volatile Organic Compound Emissions from Synthetic Organic Chemical Manufacturing Industry (SOCMI) Reactor Processes |  |  | X |
SSS | Magnetic Tape Coating Facilities |  | X | X |
TTT | Industrial Surface Coating: Surface Coating of Plastic Parts for Business Machines |  | X | X |
UUU | Calciners and Dryers in Mineral Industries |  |  | X |
VVV | Polymeric Coating of Supporting Substrates Facilities |  |  | X |
WWW | Municipal Solid Waste Landfills |  |  | X |
AAAA | Small Municipal Waste Combustion Units for Which Construction is Commenced After August 30, 1999 or for Which Modification or Reconstruction is Commended After June 6, 2001 | X | X | X |
CCCC | Commercial and Industrial Solid Waste Incineration Units for Which Construction Is Commenced After November 30, 1999 or for Which Modification or Reconstruction Is Commenced on or After June 1, 2001 |  |  | X |
EEEE | Other Solid Waste Incineration Units for Which Construction is Commenced After December 9, 2004, or for Which Modification or Reconstruction is Commenced on or After June 16, 2006 |  |  | X |
GGGG | (Reserved) |  |  |  |
HHHH | (Reserved) |  |  |  |
IIII | Stationary Compression Ignition Internal Combustion Engines |  |  | X |
JJJJ | Stationary Spark Ignition Internal Combustion Engines |  |  | X |
KKKK | Stationary Combustion Turbines |  |  | X |
LLLL | New Sewage Sludge Incineration Units |  |  |  |
OOOO | Crude Oil and Natural Gas Production, Transmission, and Distribution |  |  |  |

* * * * *

(4) * * *

Delegation Status for New Source Performance Standards for Nevada
| Subpart | Air pollution control agency: Nevada DEP | Air pollution control agency: Clark County | Air pollution control agency: Washoe County
A | General Provisions | X | X | X
D | Fossil-Fuel Fired Steam Generators Constructed After August 17, 1971 | X | X | X
Da | Electric Utility Steam Generating Units Constructed After September 18, 1978 | X | X |
Db | Industrial-Commercial-Institutional Steam Generating Units | X | X |
Dc | Small Industrial-Commercial-Institutional Steam Generating Units | X | X |
E | Incinerators | X | X | X
Ea | Municipal Waste Combustors Constructed After December 20, 1989 and On or Before September 20, 1994 | X | X |
Eb | Large Municipal Waste Combustors Constructed After September 20, 1994 | X | X |
Ec | Hospital/Medical/Infectious Waste Incinerators for Which Construction is Commenced After June 20, 1996 | X | X |
F | Portland Cement Plants | X | X | X
G | Nitric Acid Plants | X | X |
Ga | Nitric Acid Plants For Which Construction, Reconstruction or Modification Commenced After October 14, 2011 |  |  |
H | Sulfuric Acid Plant | X | X |
I | Hot Mix Asphalt Facilities | X | X | X
J | Petroleum Refineries | X | X |
Ja | Petroleum Refineries for Which Construction, Reconstruction, or Modification Commenced After May 14, 2007 |  |  |
K | Storage Vessels for Petroleum Liquids for Which Construction, Reconstruction, or Modification Commenced After June 11, 1973, and Prior to May 19, 1978 | X | X | X
Ka | Storage Vessels for Petroleum Liquids for Which Construction, Reconstruction, or Modification Commenced After May 18, 1978, and Prior to July 23, 1984 | X | X | X
Kb | Volatile Organic Liquid Storage Vessels (Including Petroleum Liquid Storage Vessels) for Which Construction, Reconstruction, or Modification Commenced After July 23, 1984 | X | X |
L | Secondary Lead Smelters | X | X | X
M | Secondary Brass and Bronze Production Plants | X | X |
N | Primary Emissions from Basic Oxygen Process Furnaces for Which Construction is Commenced After June 11, 1973 | X | X |
Na | Secondary Emissions from Basic Oxygen Process Steelmaking Facilities for Which Construction is Commenced After January 20, 1983 | X | X |
O | Sewage Treatment Plants | X | X | X
P | Primary Copper Smelters | X | X | X
Q | Primary Zinc Smelters | X | X | X
R | Primary Lead Smelters | X | X | X
S | Primary Aluminum Reduction Plants | X | X |
T | Phosphate Fertilizer Industry: Wet Process Phosphoric Acid Plants | X | X |
U | Phosphate Fertilizer Industry: Superphosphoric Acid Plants | X | X |
V | Phosphate Fertilizer Industry: Diammonium Phosphate Plants | X | X |
W | Phosphate Fertilizer Industry: Triple Superphosphate Plants | X | X |
X | Phosphate Fertilizer Industry: Granular Triple Superphosphate Storage Facilities | X | X |
Y | Coal Preparation and Processing Plants | X | X | X
Z | Ferroalloy Production Facilities | X | X |
AA | Steel Plants: Electric Arc Furnaces Constructed After October 21, 1974 and On or Before August 17, 1983 | X | X |
AAa | Steel Plants: Electric Arc Furnaces and Argon-Oxygen Decarburization Vessels Constructed After August 7, 1983 | X | X |
BB | Kraft Pulp Mills | X | X |
CC | Glass Manufacturing Plants | X | X |
DD | Grain Elevators | X | X | X
EE | Surface Coating of Metal Furniture | X | X | X
FF | (Reserved) |  |  |
GG | Stationary Gas Turbines | X | X | X
HH | Lime Manufacturing Plants | X | X | X
KK | Lead-Acid Battery Manufacturing Plants | X | X | X
LL | Metallic Mineral Processing Plants | X | X | X
MM | Automobile and Light Duty Trucks Surface Coating Operations | X | X | X
NN | Phosphate Rock Plants | X | X | X
PP | Ammonium Sulfate Manufacture | X | X |
QQ | Graphic Arts Industry: Publication Rotogravure Printing | X | X | X
RR | Pressure Sensitive Tape and Label Surface Coating Operations | X | X |
SS | Industrial Surface Coating: Large Appliances | X | X | X
TT | Metal Coil Surface Coating | X | X | X
UU | Asphalt Processing and Asphalt Roofing Manufacture | X | X | X
VV | Equipment Leaks of VOC in the Synthetic Organic Industry Chemicals Manufacturing | X | X | X
VVa | Equipment Leaks of VOC in the Synthetic Organic Industry for Which Construction, Reconstruction, or Chemicals Manufacturing Modification Commenced After November 7, 2006 | X | X |
WW | Beverage Can Surface Coating Industry | X | X |
XX | Bulk Gasoline Terminals | X | X |
AAA | New Residential Wood Heaters |  | X |
BBB | Rubber Tire Manufacturing Industry | X | X |
CCC | (Reserved) |  |  |
DDD | Volatile Organic Compounds (VOC) Emissions from the Polymer Manufacturing Industry | X | X |
EEE | (Reserved) |  |  |
FFF | Flexible Vinyl and Urethane Coating and Printing | X | X |
GGG | Equipment Leaks of VOC in Petroleum Refineries | X | X |
GGGa | Equipment Leaks of VOC in Petroleum Refineries for Which Construction, Reconstruction, or Modification Commenced After November 7, 2006 | X | X |
HHH | Synthetic Fiber Production Facilities | X | X |
III | Volatile Organic Compound (VOC) Emissions From the Synthetic Organic Chemical Manufacturing Industry (SOCMI) Air Oxidation Unit Processes | X | X |
JJJ | Petroleum Dry Cleaners | X | X | X
KKK | Equipment Leaks of VOC From Onshore Natural Gas Processing Plants | X | X |
LLL | Onshore Natural Gas Processing: SO2 Emissions | X | X |
MMM | (Reserved) |  |  |
NNN | Volatile Organic Compound (VOC) Emissions From Synthetic Organic Chemical Manufacturing Industry (SOCMI) Distillation Operations | X | X |
OOO | Nonmetallic Mineral Processing Plants | X | X |
PPP | Wool Fiberglass Insulation Manufacturing Plants | X | X |
QQQ | VOC Emissions From Petroleum Refinery Wastewater Systems | X | X |
RRR | Volatile Organic Compound Emissions from Synthetic Organic Chemical Manufacturing Industry (SOCMI) Reactor Processes | X | X |
SSS | Magnetic Tape Coating Facilities | X | X |
TTT | Industrial Surface Coating: Surface Coating of Plastic Parts for Business Machines | X | X | X
UUU | Calciners and Dryers in Mineral Industries | X | X | X
VVV | Polymeric Coating of Supporting Substrates Facilities | X | X | X
WWW | Municipal Solid Waste Landfills | X | X | X
AAAA | Small Municipal Waste Combustion Units for Which Construction is Commenced After August 30, 1999 or for Which Modification or Reconstruction is Commended After June 6, 2001 | X | X | X
CCCC | Commercial and Industrial Solid Waste Incineration Units for Which Construction Is Commenced After November 30, 1999 or for Which Modification or Reconstruction Is Commenced on or After June 1, 2001 | X | X | X
EEEE | Other Solid Waste Incineration Units for Which Construction is Commenced After December 9, 2004, or for Which Modification or Reconstruction is Commenced on or After June 16, 2006 | X | X | X
GGGG | (Reserved) |  |  |
HHHH | (Reserved) |  |  |
IIII | Stationary Compression Ignition Internal Combustion Engines | X | X | X
JJJJ | Stationary Spark Ignition Internal Combustion Engines | X | X | X
KKKK | Stationary Combustion Turbines | X | X | X
LLLL | New Sewage Sludge Incineration Units |  | X |
OOOO | Crude Oil and Natural Gas Production, Transmission, and Distribution |  |  |

* * * * *

PART 61—[AMENDED]

1. The authority citation for part 61 continues to read as follows:

Authority: 42 U.S.C. 7401 et seq.

Subpart A—General Provisions

2. Section 61.04 is amended by revising the table in paragraph (c)(9)(i), and by revising the introductory paragraphs and tables in (c)(9)(ii)(A), (c)(9)(ii)(E), and (c)(9)(iv) to read as follows:

§ 61.04 Address.

* * * * *

(c) * * *

* * * * *

(9) * * *

(i) * * *

Delegation Status for National Emission Standards for Hazardous Air Pollutants for Arizona
| Subpart | Air pollution control agency: Arizona DEQ | Air pollution control agency: Maricopa County | Air pollution control agency: Pima County | Air pollution control agency: Pinal County
A | General Provisions | X | X | X | X
B | Radon Emissions From Underground Uranium Mines |  |  |  |
C | Beryllium | X | X | X | X
D | Beryllium Rocket Motor Firing | X | X | X | X
E | Mercury | X | X | X | X
F | Vinyl Chloride | X | X | X | X
G | (Reserved) |  |  |  |
H | Emissions of Radionuclides Other Than Radon From Department of Energy Facilities |  |  |  |
I | Radionuclide Emissions From Federal Facilities Other Than Nuclear Regulatory Commission Licensees and Not Covered by Subpart H |  |  |  |
J | Equipment Leaks (Fugitive Emission Sources) of Benzene | X | X | X | X
K | Radionuclide Emissions From Elemental Phosphorus Plants |  |  |  |
L | Benzene Emissions from Coke By-Product Recovery Plants | X | X | X | X
M | Asbestos | X | X | X | X
N | Inorganic Arsenic Emissions From Glass Manufacturing Plants | X | X | X |
O | Inorganic Arsenic Emissions From Primary Copper Smelters | X | X | X |
P | Inorganic Arsenic Emissions From Arsenic Trioxide and Metallic Arsenic Production Facilities | X | X |  |
Q | Radon Emissions From Department of Energy Facilities |  |  |  |
R | Radon Emissions From Phosphogypsum Stacks |  |  |  |
S | (Reserved) |  |  |  |
T | Radon Emissions From the Disposal of Uranium Mill Tailings |  |  |  |
U | (Reserved) |  |  |  |
V | Equipment Leaks (Fugitive Emission Sources) | X | X | X | X
W | Radon Emissions From Operating Mill Tailings |  |  |  |
X | (Reserved) |  |  |  |
Y | Benzene Emissions From Benzene Storage Vessels | X | X | X | X
Z-AA | (Reserved) |  |  |  |
BB | Benzene Emissions From Benzene Transfer Operations | X | X | X | X
CC-EE | (Reserved) |  |  |  |
FF | Benzene Waste Operations | X | X | X | X

* * * * *

(ii) * * *

(A) Delegations for Amador County Air Pollution Control District, Antelope Valley Air Quality Management District, Bay Area Air Quality Management District, and Butte County Air Quality Management District are shown in the following table:

Delegation Status for National Emissions Standards for Hazardous Air Pollutants for Amador County APCD, Antelope Valley AQMD, Bay Area AQMD, and Butte County AQMD
| Subpart | Air pollution control agency: Amador County APCD | Air pollution control agency: Antelope Valley AQMD | Air pollution control agency: Bay Area AQMD | Air pollution control agency: Butte County AQMD
A | General Provisions |  | X | X |
B | Radon Emissions From Underground Uranium Mines |  |  |  |
C | Beryllium |  | X | X |
D | Beryllium Rocket Motor Firing |  | X | X |
E | Mercury |  | X | X |
F | Vinyl Chloride |  | X | X |
G | (Reserved) |  |  |  |
H | Emissions of Radionuclides Other Than Radon From Department of Energy Facilities |  |  |  |
I | Radionuclide Emissions From Federal Facilities Other Than Nuclear Regulatory Commission Licensees and Not Covered by Subpart H |  |  |  |
J | Equipment Leaks (Fugitive Emission Sources) of Benzene |  | X |  |
K | Radionuclide Emissions From Elemental Phosphorus Plants |  |  |  |
L | Benzene Emissions from Coke By-Product Recovery Plants |  | X | X |
M | Asbestos |  | X | X |
N | Inorganic Arsenic Emissions From Glass Manufacturing Plants |  | X |  |
O | Inorganic Arsenic Emissions From Primary Copper Smelters |  | X |  |
P | Inorganic Arsenic Emissions From Arsenic Trioxide and Metallic Arsenic Production Facilities |  | X |  |
Q | Radon Emissions From Department of Energy Facilities |  |  |  |
R | Radon Emissions From Phosphogypsum Stacks |  |  |  |
S | (Reserved) |  |  |  |
T | Radon Emissions From the Disposal of Uranium Mill Tailings |  |  |  |
U | (Reserved) |  |  |  |
V | Equipment Leaks (Fugitive Emission Sources) |  | X |  |
W | Radon Emissions From Operating Mill Tailings |  |  |  |
X | (Reserved) |  |  |  |
Y | Benzene Emissions From Benzene Storage Vessels |  | X | X |
Z-AA | (Reserved) |  |  |  |
BB | Benzene Emissions From Benzene Transfer Operations |  | X | X |
CC-EE | (Reserved) |  |  |  |
FF | Benzene Waste Operations |  | X | X |

* * * * *

(E) Delegations for Modoc Air Pollution Control District, Mojave Desert Air Quality Management District, Monterey Bay Unified Air Pollution Control District, and North Coast Unified Air Quality Management District are shown in the following table:

Delegation Status for National Emissions Standards for Hazardous Air Pollutants for Modoc County APCD, Mojave Desert AQMD, Monterey Bay Unified APCD, and North Coast Unified AQMD
| Subpart | Air pollution control agency: Modoc County APCD | Air pollution control agency: Mojave Desert AQMD | Air pollution control agency: Monterey Bay Unified APCD | Air pollution control agency: North Coast Unified AQMD
A | General Provisions | X | X | X | X
B | Radon Emissions From Underground Uranium Mines |  |  |  |
C | Beryllium | X | X | X | X
D | Beryllium Rocket Motor Firing | X | X | X | X
E | Mercury | X | X | X | X
F | Vinyl Chloride | X | X | X | X
G | (Reserved) |  |  |  |
H | Emissions of Radionuclides Other Than Radon From Department of Energy Facilities |  |  |  |
I | Radionuclide Emissions From Federal Facilities Other Than Nuclear Regulatory Commission Licensees and Not Covered by Subpart H |  |  |  |
J | Equipment Leaks (Fugitive Emission Sources) of Benzene | X | X | X | X
K | Radionuclide Emissions From Elemental Phosphorus Plants |  |  |  |
L | Benzene Emissions from Coke By-Product Recovery Plants |  | X | X | X
M | Asbestos | X | X | X | X
N | Inorganic Arsenic Emissions From Glass Manufacturing Plants |  | X | X |
O | Inorganic Arsenic Emissions From Primary Copper Smelters | X | X | X |
P | Inorganic Arsenic Emissions From Arsenic Trioxide and Metallic Arsenic Production Facilities | X | X | X |
Q | Radon Emissions From Department of Energy Facilities |  |  |  |
R | Radon Emissions From Phosphogypsum Stacks |  |  |  |
S | (Reserved) |  |  |  |
T | Radon Emissions From the Disposal of Uranium Mill Tailings |  |  |  |
U | (Reserved) |  |  |  |
V | Equipment Leaks (Fugitive Emission Sources) | X | X | X | X
W | Radon Emissions From Operating Mill Tailings |  |  |  |
X | (Reserved) |  |  |  |
Y | Benzene Emissions From Benzene Storage Vessels |  | X | X | X
Z-AA | (Reserved) |  |  |  |
BB | Benzene Emissions From Benzene Transfer Operations |  | X | X |
CC-EE | (Reserved) |  |  |  |
FF | Benzene Waste Operations |  | X | X |

* * * * *

(iv) Nevada. The following table identifies delegations for Nevada:

Delegation Status for National Emissions Standards for Hazardous Air Pollutants for Nevada
| Subpart | Air pollution control agency: Nevada DEP | Air pollution control agency: Clark County | Air pollution control agency: Washoe County
A | General Provisions | X | X |
B | Radon Emissions From Underground Uranium Mines |  |  |
C | Beryllium | X | X | X
D | Beryllium Rocket Motor Firing | X | X |
E | Mercury | X | X |
F | Vinyl Chloride | X | X |
G | (Reserved) |  |  |
H | Emissions of Radionuclides Other Than Radon From Department of Energy Facilities | X |  |
I | Radionuclide Emissions From Federal Facilities Other Than Nuclear Regulatory Commission Licensees and Not Covered by Subpart H | X |  |
J | Equipment Leaks (Fugitive Emission Sources) of Benzene | X | X |
K | Radionuclide Emissions From Elemental Phosphorus Plants | X |  |
L | Benzene Emissions from Coke By-Product Recovery Plants | X | X |
M | Asbestos |  | X | X
N | Inorganic Arsenic Emissions From Glass Manufacturing Plants | X | X |
O | Inorganic Arsenic Emissions From Primary Copper Smelters | X | X |
P | Inorganic Arsenic Emissions From Arsenic Trioxide and Metallic Arsenic Production Facilities | X | X |
Q | Radon Emissions From Department of Energy Facilities |  |  |
R | Radon Emissions From Phosphogypsum Stacks |  |  |
S | (Reserved) |  |  |
T | Radon Emissions From the Disposal of Uranium Mill Tailings |  |  |
U | (Reserved) |  |  |
V | Equipment Leaks (Fugitive Emission Sources) | X | X |
W | Radon Emissions From Operating Mill Tailings |  |  |
X | (Reserved) |  |  |
Y | Benzene Emissions From Benzene Storage Vessels | X | X |
Z-AA | (Reserved) |  |  |
BB | Benzene Emissions From Benzene Transfer Operations | X | X |
CC-EE | (Reserved) |  |  |
FF | Benzene Waste Operations | X | X |

* * * * *

[FR Doc. 2013-10180 Filed 4-29-13; 8:45 am]

BILLING CODE 6560-50-P